DEPARTMENT OF VETERANS AFFAIRS

Advisory Committee on Cemeteries and Memorials, Notice of Meeting

The Department of Veterans Affairs (VA) gives notice under the Federal Advisory Committee Act 5 U.S.C. ch. 10, that the annual meeting of the Advisory Committee on Cemeteries and Memorials will be held October 25-26, 2023. Due to unforeseen administrative and logistical circumstances and DFO availability, VA is announcing this meeting with less than 15 calendar days public notice. The meeting sessions will begin and end as follows:

Date(s) | Time(s) | Location(s) | Open to the public
October 25, 2023 | 8:15 a.m. to 9:45 a.m. Mountain Daylight Time (MDT) | Tour of Little Bighorn Battlefield National Monument, including Custer National Cemetery (National Park Service) | Yes.
October 25, 2023 | 10 a.m.-10:50 a.m. MDT | Apsalooke Tribal Veterans Cemetery, Highway 1 and Xavier Street, Crow Agency 59022 | Yes.
October 25, 2023 | 1:45 p.m.-2:45 p.m. MDT | Billings VA Community Based Clinic, 1766 Majestic Lane, Billings, MT 59102 | Yes.
October 25, 2023 | 3:10 p.m.-4:10 p.m. MDT | Yellowstone National Cemetery, 55 Buffalo Trail Road, Laurel, MT 59044 | Yes.
October 26, 2023 | 9:15 a.m. to 3:45 p.m. MDT | Double Tree by Hilton, Hotel Billings, 27 N 27th Street, Billings, MT 59101 | Yes.

Sessions are open to the public.

The purpose of the Committee is to advise the Secretary of Veterans Affairs on the administration of national cemeteries, soldiers' lots and plots, the selection of new national cemetery sites, the erection of appropriate memorials, and the adequacy of Federal burial benefits. The Committee makes recommendations to the Secretary regarding such activities.

On Wednesday, October 25, 2023, the committee will convene an open session with tours to Custer National Cemetery at Little Bighorn Battlefield, Apsaalooke Tribal Veterans Cemetery, VA Community Based Outpatient Clinic and Yellowstone National Cemetery. Transportation will not be provided for public guests.

On Thursday, October 26, 2023, the committee will convene an open session from 9:30 a.m. to 3:45 p.m. MDT. The agenda will include remarks by National Cemetery Administration (NCA) leadership, and briefings from the Office of Army Cemeteries and Veterans Legacy Memorial Program, as well as subcommittee updates, public comments and open discussion.

Any member of the public seeking additional information should contact Ms. Faith Hopkins, Designated Federal Officer, at 202-603-4499. Please leave a voice message. The Committee will also accept written comments. Comments may be transmitted electronically to the Committee at faith.hopkins@va.gov. In the public's communications with the Committee, the writers must identify themselves and state the organizations, associations, or persons they represent.

Any member of the public who wishes to attend the meeting virtually on October 26, 2023, may use the following Cisco Webex Meeting Link:

Join On Your Computer Or Mobile App:

https://veteransaffairs.webex.com/veteransaffairs/j.php?MTID=m5ffea4a7bd2ee7d57621d2465f281ea2.

Meeting number: 2762 033 6050

Password: CdYdxg8m*45

Join by phone: 404-397-1596

Access code: 276 203 36050

Dated: October 11, 2023.
LaTonya L. Small,
Federal Advisory Committee Management Officer.

[FR Doc. 2023-22796 Filed 10-16-23; 8:45 am]

BILLING CODE P